DEPARTMENT OF AGRICULTURE

Animal and Plant Health Inspection Service

[Docket No. 05-044-1]

Notice of Request for Extension of Approval of an Information Collection; National Poultry Improvement Plan

AGENCY: Animal and Plant Health Inspection Service, USDA.

ACTION: Extension of approval of an information collection; comment request.

SUMMARY: In accordance with the Paperwork Reduction Act of 1995, this notice announces the Animal and Plant Health Inspection Service's intention to request an extension of approval of an information collection in support of the National Poultry Improvement Plan.

DATES: We will consider all comments that we receive on or before October 14, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 05-044-1, Regulatory Analysis and Development, PPD, APHIS, Station 3C71, 4700 River Road, Unit 118, Riverdale, MD 20737-1238. Please state that your comment refers to Docket No. 05-044-1.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: For information regarding the National Poultry Improvement Plan, contact Mr. Andrew Rhorer, Senior Coordinator, National Poultry Improvement Plan, VS, APHIS, 1498 Klondike Road, Suite 200, Conyers, GA 30094-5104, (770) 922-3496. For copies of more detailed information on the information collection, contact Mrs. Celeste Sickles, APHIS' Information Collection Coordinator, at (301) 734-7477.

SUPPLEMENTARY INFORMATION:

Title: National Poultry Improvement Plan.

OMB Number: 0579-0007.

Type of Request: Extension of approval of an information collection.

Abstract: The Animal and Plant Health Inspection Service (APHIS) of the United States Department of Agriculture is responsible for, among other things, administering the National Poultry Improvement Plan (NPIP), the primary purpose of which is to protect the health of the U.S. poultry population. NPIP is a voluntary Federal-State-industry cooperative program for the improvement of poultry breeding flocks and products through disease control techniques.

Administering the NPIP requires us to engage in a number of information collection activities, which are described below. We are asking the Office of Management and Budget (OMB) to approve our use of this information collection activities, which are critical to our ability to prevent the spread of contagious poultry diseases within the United States.

Flock Selecting and Testing Report (VS Form 9-2)

This form is used by authorized agents and State inspectors when breeding flocks are selected and tested. The form provides space for the number of birds tested and the results of the test. This form also identifies a given flock as to owner, hatchery affiliation, stock, type, purpose, classification, and most importantly, flock location. Since most of the flocks are supply flocks for the same hatchery, it is extremely important to know the location of the flock. The information on this form is of critical importance when an investigation must be conducted to determine the source of a hatchery-disseminated or egg-transmitted disease.

Report of Sales of Hatching Eggs, Chicks, and Poults (VS Form 9-3)

NPIP participants use this form to record any interstate sales of their hatching eggs, chicks, and poults. This document is used by both APHIS and the receiving State to monitor the movements of these items. This form also serves as a vital investigative aid when APHIS is attempting to track down the source of a poultry disease. These records must be maintained by producers for 3 years.

Summary of Breeding Flock Participation (VS Form 9-4)

This report form, which is completed by State animal health authorities, contains a summary of blood testing work and of flock participation by classes and breeding status. It is distributed to Official State Agencies from our offices at the end of the testing year in June and must be returned to us in July. With this information, we can publish our Tables on Hatchery and Flock Participation, which serve as an important tool in monitoring the health status of participating flocks.

Report of Hatcheries, Dealers, and Independent Flocks Participating in the NPIP (VS Form 9-5)

This form is completed by the official State Agency to record an NPIP program participant's decision to withdraw from the program, or to record a producer's decision to join the program. The form requests information on the location and size of each flock owned by the producer. It is important for any individual participating in the NPIP to report the existence and location of all his or her flocks, since the disease status of one flock can affect the health of other flocks. Failing to report the existence and location of all flocks could have detrimental effects upon our ability to effectively monitor the health status of flocks within a given State. In the event of a poultry disease outbreak, this lack of information could prove detrimental to our efforts to promptly contain and eradicate the disease. This document is also used to record a change in disease program classification. This form allows us to effectively monitor participation in the plan, and to maintain an up-to-date list of program participants, their addresses, and other important information concerning their poultry operations.

Report of Salmonella Isolations to NPIP Official State Agencies (VS Form 9-6)

When salmonella organisms are isolated from a specimen that originated in an NPIP participating hatchery, State veterinary authorities must attempt to locate the source of the infection. The results of this investigation, and the actions taken to eliminate the infection, must be reported to APHIS by the State. The VS Form 9-6 is used for this purpose.

Investigation of Salmonella Isolations in Poultry (VS Form 9-7)

If a multi-State disease outbreak occurs, the NPIP will conduct an investigation and share the resulting information with all the States involved. The VS Form 9-7 is one of the tools used to complete this investigation; it provides the investigating State agency with a uniform method of compiling and analyzing information that can subsequently be used to study trends, economic importance, and other matters. This form is arranged in sections so that the disease investigations can be completed in stages by different inspectors, depending upon the location of the flock, hatchery, and breeding flock. The inspector obtains some of the needed information by interviewing the appropriate poultry producers. When several States are involved in a pullorum-typhoid infection, the completed form will be sent to each of the States involved so that all of them will be aware of the investigation's outcome.

Flock Inspection and Check Testing Report (VS Form 9-8)

This form is completed by a State inspector to recheck a flock that has already been tested for pullorum-typhoid. This retesting is performed randomly, periodically, and unannounced as a means of verifying that pullorum-typhoid testing was correctly carried out on a given flock. The form contains such information as the location of the flock, the flock owner's name and address, the date of the last pullorum-typhoid test, the number of birds tested, and other relevant testing information.

Hatchery Inspection Form (VS Form 9-9)

This form is completed by a State inspector while inspecting a hatchery to determine if it is in compliance with NPIP standards. On this form the inspector notes the level of cleanliness in the facility and its equipment, as well as the effectiveness of the sanitation procedures in place at the facility. On this form the inspector also records the number of incubators and their condition, the make and model of these units, their egg capacity for both setting and hatching trays, the source of the supply flock, whether the flock is a multiplier or primary flock, and the flock's official health status classification. The primary reason for the inspection is to ensure that the facility's birds originate from approved NPIP sources. Hatcheries are generally inspected once each year.

Sentinel Birds Banded for Identification Prior to Flock Vaccination

When a federally licensed Salmonella enteritidis bacterin is used to vaccinate a flock, 350 birds must remain unvaccinated so that they can be used to conduct the necessary serological tests for Salmonella pullorum and Salmonella gallinarum. These test birds must be banded so that they can be recognized as sentinel birds.

Request for Salmonella Serotyping (VS Form 10-3)

This is a National Veterinary Services Laboratories (NVSL) form that must be completed by State or APHIS personnel who are submitting samples for salmonella serotyping. If samples were sent to NVSL without this form, lab personnel would have no way of identifying any given sample as to the flock from which it came, or even the disease for which the sample is to be tested.

Printing and Mailing Computerized Printouts

These printouts are constructed by hatchery operators who ship large numbers of small chick orders all across the United States. These computerized lists contain all the information found on a VS Form 9-3, but reduces the paperwork load substantially because they are computer generated. These printouts are sent every month to those States that request them. The States use these printouts to monitor the number of small chicks they are receiving.

Purpose of Notice

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 0.5112739 hours per response.

Respondents: Flock owners, breeders, hatchery operators, and State veterinary medical officers.

Estimated annual number of respondents: 10,000.

Estimated annual number of responses per respondent: 7.3.

Estimated annual number of responses: 73,000.

Estimated total annual burden on respondents: 37,323 hours. (Due to averaging, the total annual burden hours may not equal the product of the annual number of responses multiplied by the reporting burden per response.)

All responses to this notice will be summarized and included in the request for OMB approval. All comments will also become a matter of public record.

Done in Washington, DC, this 9th day of August 2005.
Kevin Shea,
Acting Administrator, Animal and Plant Health Inspection Service.

[FR Doc. E5-4405 Filed 8-12-05; 8:45 am]

BILLING CODE 3410-34-P